DEPARTMENT OF HOUSING AND URBAN DEVELOPMENT

[Docket No. FR-4570-FA-04]

Announcement of Funding Awards; Fair Share Allocation of Incremental Voucher Funding for Fiscal Year 2000

AGENCY: Office of the Assistant Secretary for Public and Indian Housing, HUD.

ACTION: Announcement of funding awards.

SUMMARY: In accordance with section 102(a)(4)(C) of the Department of Housing and Urban Development Reform Act of 1989, this announcement notifies the public of funding decisions made by the Department for funding under the FY 2000 Notice of Funding Availability (NOFA) for the Fair Share Allocation of Incremental Voucher Funding for Fiscal Year 2000. This announcement contains the consolidated names and addresses of those award recipients selected for funding based on the rating and ranking of all applications within each State and the allocation of vouchers and funding available for each State.

FOR FURTHER INFORMATION CONTACT: For questions concerning the FY 2000 Section 8 Fair Share Allocation of Incremental Voucher awards, contact the Office of Public and Indian Housing's Grant Management Center, Director, Michael E. Diggs, Department of Housing and Urban Development, Washington, DC, telephone (202) 358-0221 (this is not a toll-free number). For the hearing or speech impaired, these numbers may be accessed via TTY (text telephone) by calling the Federal Information Relay Service at 1 (800) 877-8339.

SUPPLEMENTARY INFORMATION: The authority for the approximately $346,560,000 in one-year budget authority for Section 8 vouchers for low-income families is found in the Departments of Veterans Affairs and Housing and Urban Development, and Independent Agencies Appropriations Act, FY 2000 (Pub. L. 106-74, approved October 20, 1999). The allocation of housing assistance budget authority for Section 8 vouchers, by State based on fair share factors, is pursuant to the provisions of 24 CFR part 791, subpart D, implementing section 213(d) of the Housing and Community Development Act of 1974, as amended.

This program provides vouchers for issuance to families on a PHA's Section 8 waiting list to enable these families to rent decent, safe, and affordable housing of their choice on the private rental market.

The Fiscal Year 2000 awards announced in this Notice were selected for funding in a competition announced in a Federal Register NOFA published on March 10, 2000 (65 FR 13222), amended on May 18, 2000 (65 FR 31584), and further corrected on June 19, 2000 (65 FR 37995). Applications were scored based on the selection criteria in that NOFA and funding selections were made based on the rating and ranking of applications within each State.

The Federal Domestic Assistance number for this program is 14.857.

The amount announced in the NOFA for Section 8 Fair Share vouchers was approximately $346,560,000. The Fair Share allocations to States based upon housing needs announced in the NOFA added up to $352,598,385. In accordance with section 102(a)(4)(C) of the Department of Housing and Urban Development Reform Act of 1989 (103 Stat. 1987, 42 U.S.C. 3545), the Department is publishing in Appendix A the names, addresses, and amounts of the 501 awards made under the Fair Share Allocation State competitions. Also published are three additional awards made to the San Diego Housing Commission, Tallahassee Housing Authority, and Roseville Housing Authority to correct technical errors made during processing.

Dated: March 29, 2001.
Gloria J. Cousar,
Acting General Deputy Assistant Secretary for Public and Indian Housing.

Appendix A—Recipients of Funding Awards for Fair Share Allocation of Incremental Voucher Funding for FY 2000

Applicant name | Address, city, state, zip | Vouchers | Amount
Tarrant, Alabama Housing Authority (AL013) | 624 Bell Avenue, Tarrant, Alabama 35217-0000 | 11 | $42,835
Housing Authority Leeds (AL069) | P.O. Box 513, Leeds, Alabama 35094-0000 | 18 | 65,051
Housing Authority of the City of Albertville, AL (AL121) | P.O. Box 1126, 711 South Broad Street, Albertville, Alabama 35950-1126 | 40 | 121,149
Housing Authority of the City of Foley (AL165) | 302 4th Avenue, Foley, Alabama 36535-0000 | 31 | 129,864
Housing Authority of the City of Dothan (AL007) | P.O. Box 1727, Dothan, Alabama 36302 | 50 | 171,425
City of Opelika Housing Authority (AL061) | 1706 Toomer Street, P.O. Box 786, Opelika, Alabama 36803-0786 | 49 | 177,376
Housing Authority of the City of Decatur, Alabama (AL048) | 100 Wilson Street, NE, P.O. Box 878, Decatur, Alabama 35602-0878 | 83 | 317,830
The Tuscaloosa Housing Authority (AL077) | 2808 10th Avenue, P.O. Box 2281, Tuscaloosa, Alabama 35403 | 98 | 319,775
Housing Authority of the City of Huntsville, Alabama (AL047) | 200 Washington Street, P.O. Box 486, Huntsville, Alabama 35804-0000 | 99 | 398,147
Housing Authority of the Birmingham District (AL001) | P.O. Box 55906, Birmingham, Alabama 35255-5906 | 100 | 453,711
Housing Authority of the City of Prichard, Alabama (AL169) | P.O. Box 10307, Prichard, Alabama 36610-0000 | 175 | 801,496
Alaska Housing Finance Corporation (AK901) | 4300 Boniface Parkway, P.O. Box 101020, Anchorage, Alaska 99510-1020 | 310 | 1,770,241
Williams Housing Authority (AZ041) | 620 West Sheridan Avenue, Williams, Arizona 86046-0000 | 3 | 14,118
City of Douglas Housing Authority (AZ037) | 425 Tenth Street, Douglas, Arizona 85607-0000 | 8 | 36,216
Housing Authority of the City of Camden (AR016) | 800 North Monroe Avenue, P.O. Box 39, Camden, Arizona 71711-0000 | 14 | 40,768
Housing Authority of the City of Flagstaff (AZ006) | P.O. Box 2098, Flagstaff, Arizona 86003-0000 | 8 | 46,200
Desha County Residential Housing Facilities Board (AR266) | P.O. Box 725, McGehee, Arizona 71654-0000 | 20 | 80,820
Mohave County Housing Authority (AZ043) | P.O. Box 7000, Kingman, Arizona 86402 | 19 | 96,121
Housing Authority of the City of Yuma (AZ035) | 1350 West Colorado Street, Yuma, Arizona 85364-0000 | 37 | 186,073
City of Tempe Housing Authority (AZ031) | P.O. Box 5002, 132 E. Sixth Street, Suite 201, Tempe, Arizona 85280-5002 | 50 | 264,400
Pima County Housing Authority (AZ033) | 310 N. Commerce Park Loop, Tucson, Arizona 85745-0000 | 52 | 291,356
Benton Public Housing Authority (AR175) | 1200 West Pine, P.O. Box 1018, Benton, Arizona 72018 | 94 | 385,118
City of Glendale Neighborhood Services Division (AZ003) | 6842 North 61st Avenue, Glendale, Arizona 85301-3199 | 75 | 389,700
The City of Mesa Housing Authority (AZ005) | 415 N. Pasadena, Mesa, Arizona 85201-5916 | 105 | 517,650
City of Tucson, Community Services Department (AZ004) | 10 East Broadway, P.O. Box 27210, Tucson, Arizona 87526-7210 | 178 | 947,494
City of Phoenix Housing Department (AZ001) | 830 East Jefferson Street, Phoenix, Arizona 85034-2298 | 178 | 964,226
Pike County Housing Authority (AR045) | P.O. Box 241, Mufreesboro, Arkansas 71958-0000 | 10 | 31,180
McGehee Arkansas Public Residential Housing Facilities Board (AR257) | P.O. Box 725, McGehee, Arkansas 71654-0000 | 20 | 65,280
Lee County Housing Authority (AR225) | 100 West Main, Marianna, Arkansas 72360-0000 | 50 | 147,400
White River Regional Housing Authority (AR197) | P.O. Box 650, Melbourne, Arkansas 72556-0650 | 100 | 274,000
Lomita Housing Authority (CA139) | 24300 Narbonne Avenue, Lomita, California 90717-0000 | 8 | 45,136
West Hollywood Housing Authority (CA145) | 8611 Santa Monica Boulevard, West Hollywood, California | 9 | 52,047
Encinitas Housing Authority (CA155) | 505 S. Vulcan Avenue, Encinitas, California 92024-0000 | 10 | 54,440
Lakewood Housing Authority (CA135) | 5050 N. Clark Avenue, Lakewood, California 90712-0000 | 20 | 109,940
Placer County Housing Authority (CA149) | 11519 B Avenue, Auburn, California 95603-0000 | 25 | 110,175
Community Service Department, El Dorado County (CA151) | 937 Spring Street, Placerville, California 95667-0000 | 34 | 172,074
City of Roseville Housing & Redevelopment (CA128) | 405 Vernon Street, #1, Roseville, California 95678-0000 | 43 | 196,209
Housing Authority of the City of Madera (CA069) | 205 North “G” Street, Madera, California 93637-0000 | 50 | 234,650
City of Carlsbad Housing Agency (CA077) | 2965 Roosevelt Street, Suite B, Carlsbad, California 92008-0000 | 50 | 286,700
Housing Authority City of Napa (CA073) | 1115 Seminary Street, P.O. Box 660, Napa, California 94559-0660 | 65 | 386,035
CDC of the City of Oceanside (Set-Aside) (CA132) | 321 North Nevada Street, Oceanside, California 92054-0000 | 69 | 387,711
Imperial Valley Housing Authority (CA143) | 1401 D Street, Brawley, California 92227-0000 | 100 | 403,600
Housing Authority of the City of Santa Ana (CA093) | P.O. Box 1988 M-27, 20 Civic Center Plaza, 2nd Floor, Santa Ana, California 92702-0000 | 62 | 446,400
City of Vacaville Housing Authority (CA125) | 650 Merchant Street, Vacaville, California 95688-0000 | 81 | 466,641
Housing Authority of the City of Santa Barbara (CA076) | 808 Laguna Street, Santa Barbara, California 93101 | 90 | 634,140
Community Development Commission of the City of Oceanside (CA132) | 300 North Coast Highway, Nevada Street Annex, Oceanside, California 92504-0000 | 113 | 634,947
Housing Authority of the City of Santa Rosa (CA088) | 90 Santa Rosa Avenue, P.O. Box 1806, Santa Rosa, California 95402-1806 | 99 | 650,232
Housing Authority of the City of San Buenaventura (CA035) | 995 Riverside Street, Ventura, California 93001-1636 | 100 | 700,800
Housing Authority of the City of Glendale, California (CA114) | 141 North Glendale Avenue, Room 202, Glendale, California 91206-0000 | 127 | 746,379
Area Housing Authority of the County of Ventura (CA092) | 1400 W. Hillcrest Drive, Newbury Park, California 91320-2721 | 100 | 768,100
County of Marin Housing Authority (CA052) | 4020 Civic Center Drive, San Rafael, California 94903-4173 | 80 | 781,120
Housing Authority of the County of Merced (CA023) | 405 U. Street, Merced, California 95340 | 192 | 880,896
Garden Grove Housing Authority (CA102) | P.O. Box 3070, Garden Grove, California 92842-0000 | 170 | 1,193,570
Housing Authority of the County of Kern (CA008) | 525 Roberts Lane, Bakersfield, California 93308-0000 | 276 | 1,258,284
Sonoma County Housing Authority (CA085) | 1440 Guerneville Road, Santa Rosa, California 95403-0000 | 207 | 1,520,829
Housing Authority of the County of Monterey (CA033) | 123 Rico Street, Salinas, California 93907-0000 | 268 | 1,571,284
Santa Barbara County Housing Authority (CA021) | P.O. Box 397, 815 West Ocean Avenue, Lompoc, California 93438-0397 | 247 | 1,580,059
Housing Authority of the County of Stanislaus (CA026) | P.O. Box 581918, Modesto, California 95358-0000 | 354 | 1,648,932
Housing Authority of Fresno County (CA028) | 1331 Fulton Mall, P.O. Box 11985, Fresno, California 93776-1985 | 388 | 1,794,888
Housing Authority of the City of Fresno (CA006) | 1331 Fulton Mall, P.O. Box 11985, Fresno, California 93776-1985 | 409 | 1,946,022
Housing Authority of the City of Sacramento (CA005) | 630 I Street, Sacramento, California 95814-0000 | 376 | 1,986,784
Housing Authority of the County of Los Angeles (CA002) | 4800 Cesar Chavez Avenue, Los Angeles, California 90022-0000 | 300 | 2,122,800
Housing Authority of the County of San Bernadino (CA019) | 1053 North “D” Street, San Bernardino, California 92410 | 414 | 2,153,628
Housing Authority of the County of Sacramento (CA007) | 630 I Street, Sacramento, California 95814-0000 | 409 | 2,287,537
Housing Authority of the County of Santa Cruz (CA072) | 2160 41st Avenue, Capitola, California 95010-2060 | 244 | 2,320,928
Housing Authority of the County of Riverside (CA027) | 5555 Arlington Avenue, Riverside, California 92504-0000 | 500 | 2,501,500
Anaheim Housing Authority (CA104) | 201 S. Anaheim Boulevard, Second floor, Anaheim, California 92805-0000 | 479 | 3,052,667
County of San Mateo Housing Authority (CA014) | 264 Harbor Boulevard, Building A, Belmont, California 94002-4017 | 329 | 3,097,535
Oakland Housing Authority (CA003) | 1619 Harrison Street, Oakland, California 94612-0000 | 550 | 4,360,400
Housing Authority of the County of San Diego (CA108) | 3989 Ruffin Road, San Diego, California 92123-1890 | 822 | 4,439,622
Housing Authority of the County of Contra Costa (CA011) | 3133 Estudillo Street, P.O. 2759, Martinez, California 94553-0000 | 595 | 4,641,000
San Francisco Housing Authority (CA001) | 440 Turk Street, San Francisco, California 94102-0000 | 507 | 4,797,741
San Jose Housing Authority (CA056) | 505 West Julian Street, San Jose, California 95110-2300 | 509 | 4,906,760
Orange County Housing Authority (CA094) | 1770 North Broadway, Santa Ana, California 92706-0000 | 740 | 5,032,000
San Diego Housing Commission (CA063) | 1625 Newton Avenue, San Diego, California 92113-1038 | 854 | 5,336,646
Housing Authority of the County of Santa Clara (CA059) | 505 West Julian Street, San Jose, California 95110-2300 | 750 | 7,891,500
Housing Authority of the City of Los Angeles (CA004) | 2600 Wilshire Boulevard, Los Angeles, California 90057-0000 | 2107 | 14,896,490
Fort Collins Housing Authority (CO041) | 1715 West Mountain Avenue, Fort Collins, Colorado 80521-0000 | 30 | 197,040
Housing Authority, City of Loveland (CO034) | 375 West 37th Street, Loveland, Colorado 80538-0000 | 33 | 201,927
Lakewood Housing Authority (CO049) | Civic Center South, 480 South Allison Parkway, Lakewood, Colorado 80226-3127 | 75 | 485,625
Housing Authority of the City of Aurora (CO052) | 10745 East Kentucky Avenue, Aurora, Colorado 80012-0000 | 92 | 513,636
Colorado Division of Housing (CO911) | 1313 Sherman Street, 518, Denver, Colorado 80203-0000 | 152 | 764,864
Colorado Springs Housing Authority (CO028) | 30 South Nevada Avenue, Suite, 304 P.O. Box 1575, Colorado Springs, Colorado 80901-1575 | 156 | 852,384
Housing Authority of the City and County of Denver (CO001) | P.O. Box 40305, 1100 West Colfax Avenue, Denver, Colorado 80204-0000 | 179 | 1,198,226
East Hartford Housing Authority (CT013) | 546 Burnside Avenue, East Hartford, Connecticut 06108-0000 | 28 | 176,179
Housing Authority of the City of Waterbury (CT006) | 2 Lakewood Road, Waterbury, Connecticut 06704-0000 | 70 | 372,343
Housing Authority of City of New Haven (CT004) | 360 Orange Street, P.O. Box 1912, New Haven, Connecticut 06509-9987 | 100 | 743,511
Housing Authority of the City of Hartford (CT003) | 475 Flatbush Avenue, Hartford, Connecticut 06106-0000 | 156 | 951,149
City of Hartford (CT051) | 550 Main Street, Hartford, Connecticut 06103 | 177 | 1,181,491
Connecticut Department of Social Services (CT901) | 25 Sigourney Street, Hartford, Connecticut 06106-0000 | 177 | 1,251,922
Dover Housing Authority (DE002) | 76 Stevenson Drive, Dover, Delaware 19901-0000 | 28 | 149,492
Delaware State Housing Authority (DE901) | 18 The Green, Dover, Delaware 19901-0000 | 28 | 163,268
District of Columbia Housing Authority (DC001) | 1133 North Capitol Street, NE, Washington, District of Columbia | 116 | 984,724
Citrus County Division of Housing Services (FL147) | 3600 W. Sovereign Path, Suite 147, Lencanto, Florida 34461-0000 | 9 | 32,028
Lee County Housing Authority (FL128) | 14170 Warner Circle, NW, N. Ft. Myers, Florida 33903-0000 | 15 | 45,220
Deland Housing Authority (FL072) | 300 Sunflower Circle, Deland, Florida 32724-0000 | 40 | 195,505
City of Daytona Beach Housing Authority (FL007) | 118 Cedar Street, Daytona Beach, Florida 32114-0000 | 58 | 263,121
Pasco County Housing Authority (FL104) | 14517 7th Street, Dade City, Florida 33523-0000 | 120 | 515,927
Tallahassee Housing Authority (FL073) | 2940 Grady Road, Tallahassee, Florida 32312-0000 | 106 | 561,690
Orange County Division of Housing and Community Development (FL093) | 525 East South Street, Orlando, Florida 32801-0000 | 105 | 574,375
Housing Authority of Brevard County (FL020) | 615 Kurek Court, P.O. Box 540338, Merritt Island, Florida 32954-0338 | 125 | 591,778
Hillsborough County Housing Assistance Community Improvement Department | P.O. Box 1110, 9260 Bay Plaza Blvd., Suite 510, Tampa, Florida 33601 | 126 | 635,291
Community Development Agency, City of Fort Myers (FL091) | 3326 Martin Luther King Blvd., Fort Myers, Florida 33916-0000 | 130 | 642,245
Palm Beach County Housing Authority (FL080) | 3432 West 45th Street, West Palm Beach, Florida 33407-0000 | 181 | 1,077,165
Housing Authority of Tampa (FL003) | 1514 Union Street, Tampa, Florida 33607-0000 | 300 | 1,569,070
Hialeah Housing Authority (FL066) | 70 East 7th Street, Hialeah, Florida 33921-0000 | 277 | 1,593,469
Broward County Housing Authority (FL079) | 1773 North State Road 7, Lauderhill, Florida 33313-0000 | 300 | 1,885,594
Miami Dade Housing Agency (FL005) | 111 N.W. 1St. Street, 29th Floor, Miami, Florida 33125-0000 | 599 | 3,716,419
Macon Housing Authority (GA007) | 2015 Felton Avenue, P.O. Box 4928, Macon, Georgia 31208-0000 | 163 | 617,516
Augusta Housing Authority (GA001) | P.O. Box 3246, Augusta, Georgia 30914-3246 | 201 | 877,656
Georgia Department of Community Affairs (GA901) | 60 Executive Park South, N.E., Atlanta, Georgia 30329-2231 | 318 | 1,339,078
Housing Authority, Dekalb County (GA237) | 325 Swanton Way, Decatur, Georgia 30035-0000 | 272 | 1,664,170
The Housing Authority of the City of Atlanta, Georgia (GA006) | Section 8 Programs, 1720 Peachtree Street N.W., Suite 500, Atlanta, Georgia 30309-0000 | 317 | 2,024,128
Guam Housing and Urban Renewal Authority (GQ901) | 117 Bien Venida Avenue, Sinajana, Guam 96926-0000 | 78 | 729,066
Housing and Community Development Corporation of Hawaii (HI901) | P.O. Box 17907, Honolulu, Hawaii 96817-0000 | 79 | 627,576
Idaho Housing & Finance Association (ID901) | P.O. Box 7899, Boise, Idaho 83707-1899 | 47 | 200,925
Ada County Housing Authority (ID021) | 680 Cunningham Place, Boise, Idaho 83702-0000 | 47 | 248,348
Boise City Housing Authority (ID013) | 680 Cunningham Place, Boise, Idaho 83702-0000 | 47 | 250,933
Housing Authority of the City of Danville, Illinois (IL011) | P.O. Box 312, Danville, Illinois 61834-0312 | 50 | 172,000
Kendall County Housing Authority (IL137) | 500A Countryside Center, Yorkville, Illinois 60560-0000 | 32 | 201,280
Housing Authority of the City of East St. Louis (IL001) | 700 North 20th Street, East St. Louis, Illinois 62205-0000 | 88 | 480,832
Lake County Housing Authority (IL056) | 33928 North Route 45, Grayslake, Illinois 60030-1700 | 100 | 708,800
Rockford Housing Authority (IL022) | 223 South Winnebago Street, Rockford, Illinois 61102-0000 | 200 | 1,080,200
Housing Authority of Cook County (IL025) | 310 South Michigan, 15th Floor, Chicago, Illinois 60604-4204 | 300 | 2,275,200
Dupage Housing Authority (IL101) | 128 S. County Farm Road, Suite A, Wheaton, Illinois 60187-0000 | 343 | 2,505,615
Chicago Housing Authority (IL002) | 626 West Jackson Boulevard, Chicago, Illinois 60661-5601 | 699 | 5,187,978
Cannelton Housing Authority (IN043) | c/o Lincoln Hills Development Corporation, P.O. Box 336, Tell City, Indiana 47586-0000 | 20 | 64,780
Housing Authority of the City of Seymour (IN056) | 309 N. Chestnut Street, P.O. Box 822, Seymour, Indiana 47274-0000 | 24 | 74,184
New Castle Housing Authority (IN050) | 274 South 14th Street, New Castle, Indiana 47362-0000 | 25 | 80,050
The Housing Authority of the City of New Albany (IN012) | 500 Scribner Drive, P.O. Box 11, New Albany, Indiana 47151-0011 | 20 | 89,080
Crawfordsville Housing Authority (IN047) | P.O. Box 421, Crawfordsville, Indiana 47933-0421 | 30 | 111,420
Housing Authority of the City of Bloomington (IN022) | P.O. Box 1815, Bloomington, Indiana 47402-0000 | 30 | 137,940
Goshen Housing Authority (IN101) | 302 South 5th Street, Goshen, Indiana 46528-3716 | 32 | 149,472
The Housing Authority of the City of Vincennes (IN002) | 501 Hart Street, P.O. Box 1636, Vincennes, Indiana 47591-0000 | 57 | 196,251
Lafayette Housing Authority (IN071) | 100 Executive Drive, Suite A, P.O. Box 6687, Lafayette, Indiana 47903-6687 | 100 | 429,400
Housing Authority of the City of Gary (IN011) | 578 Broadway, Gary, Indiana 46402-1986 | 180 | 1,032,660
Housing Authority of the City of South Bend, Indiana (IN015) | 501 Alonzo Watson Drive, P.O. Box 11057, South Bend, Indiana 46634-0057 | 260 | 1,108,120
Housing Authority of the City of Fort Wayne (IN003) | 2013 South Anthony Boulevard, P.O. Box 13489, Ft. Wayne, Indiana 46869-3489 | 260 | 1,177,280
Northeast Nebraska Joint Housing Authority (NE180) | 507 7th Street, Suite 401, P.O. Box 447, Sioux City, Iowa 51102-0447 | 14 | 43,064
City of Marshalltown Rent Assistance Program (IA125) | 24 North Center Street, Marshalltown, Iowa 50158-0000 | 30 | 86,280
Southeast Iowa Regional Housing Authority (IA128) | 214 N. 4th, Suite 2B, P.O. Box 397, Burlington, Iowa 52601-0000 | 40 | 123,160
Housing Services Department of the City of Dubuque (IA087) | 1805 Central Avenue, Dubuque, Iowa 52001-3656 | 40 | 134,440
Upper Explorerland Regional Housing Authority (IA130) | 134 West Greene Street, P.O. Box 219, Postville, Iowa 52162-0219 | 50 | 146,350
Central Iowa Regional Housing Authority (IA131) | 1111 Ninth Street, Suite 390, Des Moines, Iowa 50314-0000 | 75 | 271,650
Atchison Housing Authority (KS017) | 103 S. 7th Street, Atchison, Kansas 66002-0000 | 6 | 21,396
Ellis County Public Housing Authority (KS170) | c/o Development Services of NW, Kansas, 2703 Hall, P.O. Box 1016, Hays, Kansas 67601-0000 | 17 | 45,883
Hays Housing Authority (KS091) | 1709 Sunset Trail, Hays, Kansas 67601-0000 | 21 | 59,640
Sedgwick County Housing Authority (KS169) | 604 N. Main Street, Suite E, Wichita, Kansas 67203-0000 | 21 | 68,880
Sek-Cap, Inc. (KS161) | 401 N. Sinnet, P.O. Box 128, Girard, Kansas 66743-0000 | 46 | 132,204
South Central Kansas Area Agency on Aging (KS166) | 114 W. 5th Avenue, P.O. Box 1122, Arkansas City, Kansas 67005-0000 | 55 | 165,605
Housing Authority of Olathe, Kansas (KS043) | P.O. Box 768, Olathe, Kansas 66051-0768 | 48 | 229,392
Wichita Housing Authority (KS004) | 307 North Riverview, Wichita, Kansas 67203-0000 | 120 | 575,160
Housing Authority of Somerset (KY008) | P.O. Box 449, Somerset, Kentucky 42502-0449 | 19 | 49,166
Barbourville Urban Renewal and Community Development Housing Agency (KY150) | P.O. Box 84, Barbourville, Kentucky 40906-0000 | 18 | 57,529
Glasgow Community Development Agency (KY173) | P.O. Box, 473 Glasgow, Kentucky 42142-0473 | 34 | 87,092
Cumberland Valley Regional Housing Authority (KY160) | 338 Court Square, P.O. Box 806, Barbourville, Kentucky 40906-0000 | 70 | 235,285
Housing Authority of Louisville (KY001) | 420 S. 8th Street, Louisville, Kentucky 40203-0000 | 76 | 383,246
Lexington-Fayette County Housing Authority (KY130) | 300 West New Circle Road, Lexington, Kentucky 40505-0000 | 172 | 725,609
City of Louisville Housing Authority of Jefferson County (KY131) | 801 Vine Street, Louisville, Kentucky 40204-2088 | 194 | 749,956
Jefferson County Housing Authority (KY105) | 801 Vine Street, Louisville, Kentucky 40204-2088 | 194 | 769,917
Catahoula Parish Police Jury Section 8 (LA222) | 202 Sicily Street, P.O. Box 340, Harrisonburg, Louisiana 71340-0000 | 6 | 16,812
Vernon Parish Housing Authority (LA128) | P.O. Box 1247, Leesville, Louisiana 71496-1247 | 8 | 19,912
Union Parish Police Jury (LA196) | P.O. Box 641, Farmerville, Louisiana 71241 | 8 | 21,464
Claiborne Parish Police Jury (LA246) | P.O. Box 569, Homer, Louisiana 71040 | 10 | 30,920
Caldwell Parish Housing Authority (LA125) | 103 North Alvin Street, Columbia, Louisiana 71418-0000 | 19 | 51,908
City of New Iberia, Louisiana (LA165) | City Hall—Room 406, 457 E. Main Street, New Iberia, Louisiana 70560-0000 | 20 | 54,600
Morehouse Parish Police Jury (LA258) | East Madison Park, Elm Street, P.O. Box 1471, Bastrop, Louisiana 71221-1471 | 17 | 56,797
St. Martin Parish, SEC. 8 Program (LA178) | 118 Honore Street, St. Martinville, Louisiana 70582-0000 | 20 | 61,880
Bogalusa Housing Authority (LA024) | P.O. Box 1113, Bogalusa, Louisiana 70429-1113 | 16 | 63,136
Denham Springs Housing Authority (LA101) | P.O. Box 910, Denham Springs, Louisiana 70727-0910 | 20 | 69,580
Housing Authority of the City of Sulphur (LA063) | P.O. Box 271, Sulphur, Louisiana 70664 | 17 | 71,587
Washington Parish Housing Authority, SEC.8 Program (LA217) | 26074 Highway 21 Village Square, Apartments, Box 12, Angie, Louisiana 70426-0000 | 24 | 72,648
Broussard Housing Authority (LA136) | P.O. Box 553, Broussard, Louisiana 70518 | 29 | 88,073
Iberia Parish Government Section 8 Housing Program (LA189) | Courthouse Building, 300 Iberia Street, Suite 400, New Iberia, Louisiana 70560 | 38 | 129,238
Bossier Parish Section 8 Housing (LA190) | 700 Benton Road, Suite B, Bossier City, Louisiana 71111-0000 | 100 | 352,900
Monroe Housing Authority (LA006) | 300 Harrison Street, Monroe, Louisiana 71201-0000 | 150 | 596,850
Housing Authority of the City of Shreveport (LA002) | 623 Jordan Street, Shreveport, Louisiana 71101-0000 | 250 | 1,067,250
East Baton Rouge Parish Housing Authority (LA003) | 4546 North Street, Baton Rouge, Louisiana 70806-0000 | 250 | 1,159,250
Augusta Housing Authority (ME030) | 33 Union Street, Suite 3, Augusta, Maine 04330-0000 | 28 | 108,920
Auburn Housing Authority (ME007) | P.O. Box 3037, 20 Great Falls Plaza, Auburn, Maine 04212-3037 | 42 | 161,952
Lewiston Housing Authority (ME005) | 1 College Street, Lewiston, Maine 04240-0000 | 61 | 232,471
Maine State Housing Authority (ME901) | 353 Water Street, Augusta, Maine 04330-4633 | 66 | 334,290
Portland Housing Authority (ME003) | 14 Baxter Boulevard, Portland, Maine 04101-0000 | 66 | 352,044
Mariana Islands Housing Authority (TQ901) | P.O. Box 500514, Saipan, Mariana Islands 96950-0514 | 26 | 225,992
Cecil County Housing Agency (MD029) | County Office Building, 129 E. Main Street, Elkton, Maryland 21921-0000 | 25 | 135,275
Housing Authority of Washington County (MD028) | 33 West Washington Street, Room 210, Hagerstown, Maryland 21740-4834 | 50 | 194,000
Maryland Department of Housing and Community Development (MD902) | Community Development Administration, 100 Community Place, Room 4222, Crownsville, Maryland 21032-0000 | 19 | 205,105
Housing Authority of the City of Annapolis (MD001) | 1217 Madison Street, Annapolis, Maryland 21403-0000 | 45 | 286,380
Calvert County Housing Authority (MD022) | P.O. Box 2509, Prince Frederick, Maryland 20678-0000 | 41 | 317,873
Housing Authority City of Rockville (MD007) | 14 Moore Drive, Rockville, Maryland 20850-0000 | 69 | 637,560
St. Mary's County Housing Authority Center (MD021) | 23115 Leonard Hall Drive, P.O. Box 653—Government, Leonardtown, Maryland 20656-0000 | 125 | 756,500
Baltimore County Housing Office (MD033) | One Investment Place, Suite P-3 Towson, Maryland 21204-0000 | 150 | 759,000
Housing Opportunities Commission of Montgomery County, MD (MD004) | 10400 Detrick Avenue, Kensington, Maryland 20895-2484 | 150 | 1,339,050
Housing Authority of Baltimore City (MD002) | 417 East Fayette Street, Baltimore, Maryland 21202-0000 | 305 | 1,594,235
Newburyport Housing Authority (MA032) | 25 Temple Street, Newburyport, Massachusetts | 20 | 139,300
Acton Housing Authority (MA057) | P.O. Box 681, 68 Windsor Avenue, Acton, Massachusetts 01720-0681 | 30 | 249,900
Greenfield Housing Authority (MA096) | 1 Elm Terrace, Greenfield, Massachusetts 01301-0000 | 55 | 299,475
Gloucester Housing Authority (MA025) | P.O. Box 1599, Gloucester, Massachusetts 01931-1599 | 50 | 358,000
Norwood Housing Authority (MA109) | 40 William Shyne Circle, Norwood, Massachusetts 02062-0000 | 48 | 360,048
Methuen Housing Authority (MA081) | 24 Mystic Street, Methuen, Massachusetts 01844-0000 | 91 | 534,261
Cambridge Housing Authority (MA003) | 675 Massachusetts Avenue, Cambridge, Massachusetts 02139-0000 | 67 | 538,814
Barnstable Housing Authority (MA046) | 146 South Street, Hyannis, Massachusetts 02601-0000 | 94 | 596,148
Revere Housing Authority (MA014) | 70 Cooledge Street, Revere, Massachusetts 02151 | 88 | 635,008
Springfield Housing Authority (MA035) | P.O. Box 1609, Springfield, Massachusetts 01101 | 208 | 1,096,784
Department of Housing & Community Development (MA901) | One Congress Street, Boston, Massachusetts 02114-0000 | 438 | 3,350,262
Boston Housing Authority (MA002) | 52 Chauncy Street, Boston, Massachusetts 02111-0000 | 438 | 3,698,034
Boyne City Housing Commission (MI084) | 829 South Park Street, Boyne City, Michigan 49712-0000 | 12 | 43,560
Cheboygan Housing Commission (MI030) | 659 Cuyler Street, P.O. Box 5069, Cheboygan, Michigan 49721-0000 | 20 | 79,400
Iron County Housing Commission (MI119) | 210 North Third Street, Crystal Falls, Michigan 49920 | 30 | 93,900
Kent County Housing Commission (MI198) | 741 E. Beltline Avenue NE, Grand Rapids, Michigan 49525 | 37 | 232,175
Michigan State Housing Development Authority (MI902) | 401 S. Washington Avenue, Lansing, Michigan 48933 | 175 | 688,275
Grand Rapids Housing Commission (MI073) | 1420 Fuller, S.E., Grand Rapids, Michigan 49507-0000 | 200 | 891,400
Michigan State Housing Development (MI901) | 401 S. Washington Avenue, Lansing, Michigan 48933-0000 | 325 | 1,609,400
Wadena Housing and Redevelopment Authority (MN018) | 222 2nd Street, S.E., Wadena, Minnesota 56482-0000 | 10 | 29,300
Worthington Housing & Redevelopment Authority (MN034) | 819 10th Street, Worthington, Minnesota 56187-0000 | 29 | 80,823
Clay County Housing & Redevelopment Authority (MN164) | 116 Center Avenue East, P.O. Box 99 Dilworth, Minnesota 56529-0099 | 25 | 92,425
Itasca County Housing & Redevelopment Authority (MN154) | 19 N.E. Third Street, Grand Rapids, Minnesota 55744-0000 | 33 | 100,419
Bloomington Housing and Redevelopment Authority (MN152) | 2215 West Old Shakopee Road, Bloomington, Minnesota 55431-3096 | 20 | 120,980
Plymouth Housing & Redevelopment Authority (MN170) | 3400 Plymouth Boulevard, Plymouth, Minnesota 55447-0000 | 25 | 169,000
Stearns County Housing & Redevelopment Authority (MN172) | 312 North 1st Street, Suite 2, Cold Spring, Minnesota 56320-0000 | 47 | 185,415
St. Cloud Housing & Redevelopment Authority (MN038) | 619 W. St. Germain Street, Suite 212, St. Cloud, Minnesota 56301-0000 | 100 | 397,500
Olmsted County Housing & Redevelopment Authority (MN151) | 2122 Campus Drive S.E,. Rochester, Minnesota 55904-4744 | 98 | 436,100
Dakota County Community Development Agency (MN147) | 2496 145th Street West, Rosemount, Minnesota 55068-0000 | 100 | 545,000
Tennessee Valley Regional Housing Authority (MS006) | P.O. Box 1329, Corinth, Mississippi 38835 | 70 | 213,992
Mississippi Regional Housing Authority V (MS030) | 110 Broad Street, P.O. Box 419, Newton, Mississippi 39345-0419 | 71 | 238,196
Mississippi Regional Housing Authority IV (MS019) | P.O. Box 1051, Columbus, Mississippi 39703-1051 | 117 | 387,042
Mississippi Regional Housing Authority VIII (MS040) | P.O. Box 2347, Gulfport, Mississippi 39505 | 128 | 479,403
Mississippi Regional Housing Authority No. VI (MS058) | P.O. Drawer 8746, Jackson, Mississippi 39284-8746 | 129 | 575,410
Boone County Public Housing Authority (MO198) | 807 B N. Providence Road, Columbia, Missouri 65203-0000 | 15 | 58,380
Franklin County Public Housing Agency (MO205) | P.O. Box 920, Hillsboro, Missouri 63050-0000 | 50 | 210,200
Lincoln County Public Housing Agency (MO199) | 16 North Court Street, P.O. Box 470, Bowling Green, Missouri 63334-0000 | 100 | 427,200
St. Francois County Public Housing Agency (MO203) | 403 Glendale P.O. Box N, Park Hills, Missouri 63601-0358 | 150 | 507,150
Housing Authority of St. Louis County (MO004) | 8865 Natural Bridge, P.O. Box 23886, St. Louis, Missouri 63121-0000 | 257 | 1,243,366
City of Ronan Housing Authority (MT036) | P.O. Drawer 128, Ronan, Montana 59864-0000 | 4 | 19,640
Great Falls Housing Authority (MT002) | 1500 6th Avenue South, Great Falls, Montana 59405 | 20 | 78,540
Helena Housing Authority (MT004) | 812 Abbey Street, Helena, Montana 59601-0000 | 29 | 135,401
Montana Department of Commerce, Housing Division (MT901) | P.O. Box 200545, Helena, Montana 59620-0545 | 46 | 181,056
Housing Authority of Billings (MT001) | 2415 First Avenue North, Billings, Montana 59101-0000 | 41 | 188,149
Missoula Housing Authority (MT033) | 1319 E. Broadway, Missoula, Montana 59802-0000 | 46 | 193,108
Lincoln Housing Authority (NE002) | 5700 R Street, Lincoln, Nebraska 68505-2332 | 85 | 328,865
Douglas County Housing Authority (NE153) | 5404 North 107th Plaza, Omaha, Nebraska 68134 | 85 | 423,810
Housing Authority of the City of Reno (NV001) | 1525 E 9th Street, Reno, Nevada 89512 | 65 | 340,275
Housing Authority of the City of North Las Vegas (NV007) | 1632 Yale Street, North Las Vegas, Nevada 89030 | 65 | 441,220
City of Las Vegas Housing Authority (NV002) | 420 N. 10th Street, Las Vegas, Nevada 89101 | 66 | 450,582
Lebanon Housing Authority (NH009) | 31 Romano Circle, P.O. Box 5475, West Lebanon, New Hampshire | 12 | 53,352
Derry Housing and Redevelopment Authority (NH022) | 29 West Broadway, Derry, New Hampshire 03038-0000 | 16 | 85,760
Manchester Housing and Redevelopment Authority (NH001) | 198 Hanover Street, Manchester, New Hampshire | 46 | 209,116
New Hampshire Housing Finance Authority (NH901) | P.O. Box 5087, Manchester, New Hampshire 03108 | 46 | 248,446
Nashua Housing Authority (NH002) | 101 Major Drive, Nashua, New Hampshire 03060-4783 | 46 | 293,296
Housing Authority of the City of South Amboy (NJ035) | 257 South Broadway, South Amboy, New Jersey 08879-0000 | 10 | 68,494
Housing Authority of the Township of Brick (NJ065) | 165 Chambersbridge Road, Brick, New Jersey 08723-0000 | 9 | 69,714
Housing Authority of the City of Millville (NJ061) | P.O. Box 803, 122 East Main Street, Millville, New Jersey 08332-0000 | 12 | 80,202
Franklin Township Housing Authority (NJ116) | 1 Parkside Street, Somerset, New Jersey 08873-0000 | 12 | 94,164
Keansburg Housing Authority (NJ060) | 1 Church Street, P.O. Box 368, Keansburg, New Jersey 07734-0000 | 12 | 99,615
Highland Park Housing Authority (NJ044) | 242 South Sixth Avenue, Highland Park, New Jersey 08904-2824 | 16 | 123,164
Housing Authority of the Township of Old Bridge, Middlesex County (NJ110) | One Old Bridge Plaza, Old Bridge, New Jersey 08857-0000 | 19 | 128,378
Housing Authority of Glouchester County (NJ204) | Administrative Office, 100 Pop Moylan Boulevard, Deptford, New Jersey 08096-0000 | 34 | 178,065
Housing Authority of the Township of Woodbridge (NJ033) | 20 Bunns lane, Woodbridge, New Jersey 07095-1726 | 30 | 224,062
Paterson Housing Authority (NJ021) | 60 Van Houten Street, P.O. Box H, Paterson, New Jersey 07505-0000 | 25 | 271,966
Long Branch Housing Authority (NJ008) | P.O. Box 337, Garfield Court, Long Branch, New Jersey 07740-0000 | 39 | 328,740
Middlesex County Public Housing Agency (NJ114) | County Administration Building, John F. Kennedy Square, New Brunswick, New Jersey | 37 | 333,080
Orange City Housing Authority (NJ025) | 340 Thomas Boulevard, Orange, New Jersey 07050-0000 | 51 | 334,144
Passaic County Public Housing Agency (NJ090) | 401 Grand Street, Room 514, Patterson, New Jersey 07505 | 76 | 573,966
Lakewood Township Rental Assistance Program (NJ214) | 600 W. Kennedy Boulevard, P.O. Box 856, Lakewood, New Jersey 08701-0000 | 76 | 732,783
Passaic Housing Authority (NJ013) | 333 Passaic Street, Passaic, New Jersey 07055-0000 | 124 | 985,559
Housing Authority of Bergen County (NJ067) | Court Plaza South-Room 307W, 21 Main Street, Hackensack, New Jersey 07601-7000 | 338 | 2,515,975
Housing Authority of the City of Newark (NJ002) | 57 Sussex Avenue, Newark, New Jersey 07103-0000 | 367 | 2,855,013
New Jersey Department of Community Affairs Division of Housing and Community | P.O. Box 051, Trenton, New Jersey 08625-0051 | 429 | 2,984,149
Dona Ana County Housing Authority (NM062) | 926 S. San Pedro Street, Las Cruces, New Mexico 88001-3637 | 41 | 141,746
Housing Authority of the City of Las Cruces (NM003) | 926 S. San Pedro Street, Las Cruces, New Mexico 88001-3637 | 54 | 198,498
Santa Fe Civic Housing Authority (NM058) | P.O. Box 4039, Santa Fe, New Mexico 87502-4039 | 47 | 258,884
Albuquerque Housing Services (NM001) | 1840 University SE, Albuquerque, New Mexico 87106-0000 | 71 | 327,105
Bernalillo County Housing Department (NM057) | 620 Lomas Blvd. N.W., Albuquerque, New Mexico 87102 | 70 | 350,274
Town of Penfield (NY415) | 3300 Atlantic Avenue, Penfield, New York 14526-0000 | 8 | 31,392
Village of Highland Falls Housing Authority (NY125) | 303 Main Street, Highland Falls, New York 10928-0000 | 9 | 63,558
Housing Authority of Gloversville (NY048) | 181 West Street, Gloversville, New York 12078-1911 | 22 | 71,478
Norwich Housing Authority (NY065) | 13 Brown Street, Norwich, New York 13815-0000 | 20 | 77,000
Village of Kaser (NY160) | 15 Eylon Road, P.O. Box 391, Monsey, New York 10952 | 6 | 84,516
Town of Irondequoit (NY439) | 1280 Titus Avenue, Rochester, New York 14617-0000 | 21 | 88,326
Housing Authority of Cortland (NY021) | 42 Church Street, Cortland, New York 13045-0000 | 26 | 91,754
Rome Housing Authority (NY034) | 205 St. Peter's Avenue, Rome, New York 13440 | 26 | 97,266
Town of Greece (NY444) | 1 Vince Tofany Boulevard, Rochester, New York 14616-0000 | 25 | 104,700
Town of Saugerties Public Housing Agency (NY529) | Town Hall, Main Street, Saugerties, New York 12477-1325 | 19 | 106,476
Town of Colonie (NY408) | Memorial Town Hall, Newtonville, New York 12128-0000 | 25 | 125,200
Tuckahoe Housing Authority (NY165) | 4 Union Place, Tuckahoe, New York 10707-0000 | 15 | 137,325
Long Beach Housing Authority (NY050) | 500 Centre Street, P.O. Box 270, Long Beach, New York 11561-0000 | 17 | 151,589
City of North Tonawanda Public Housing Authority (NY405) | c/o Belmont Shelter Corp., 1195 Main Street, Buffalo, New York 14209-0000 | 38 | 153,140
Fairport Urban Renewal Agency (NY406) | 31 South Main Street, Fairport, New York 14450-0000 | 36 | 155,880
Monticello Housing Authority (NY071) | 76 Evergreen Drive, Monticello, New York 12701 | 37 | 181,818
Village of Kiryas Joel Housing Authority (NY158) | 51 Forest Road, Suite 360, Monroe, New York 10950 | 22 | 202,290
City of New Rochelle (NY113) | 515 North Avenue, New Rochelle, New York 10801-0000 | 25 | 212,175
Village Of Ossining (NY094) | 16 Croton Avenue, Ossining, New York 10562 | 23 | 215,533
Freeport Housing Authority (NY023) | 3 Buffalo Avenue, Freeport, New York 11520-0000 | 19 | 218,538
Troy Housing Authority (NY012) | 1 Eddy's Lane Troy, New York 12180-0000 | 51 | 234,804
Housing Authority of Glens Falls (NY079) | Stichman Towers, Jay Sreet, Glens Falls, New York 12801-0000 | 60 | 238,800
Village of Hempstead Public Housing Authority (NY085) | 260 Clinton Street, Hempstead, New York 11550-0000 | 25 | 261,675
North Fork Housing Alliance, Inc. (NY152) | 110 South Street, Greenport, New York 11944-0000 | 30 | 279,090
Village of Rockville Centre Community Development Agency (NY159) | 1 College Place, Rockville Centre, New York 11570 | 31 | 282,069
Village of New Square Public Housing Authority (NY138) | 2 Cleveland Avenue, Suite A, New Square, New York 10977-0000 | 44 | 396,308
Village of Nyack Housing Authority (NY114) | 15 Highview Court, P.O. Box 740, Nyack, New York 10960-0000 | 13 | 502,209
Town of Brookhaven | Building 3, Room 305, 3233 Route 112, Medford, New York 11763-0000 | 50 | 504,300
Department of Housing, Community Development and City of Mount Vernon Urban Renewal Agency (NY175) | City Hall, Roosevelt Square—2nd Floor, Mount Vernon, New York 10550-0000 | 87 | 525,828
Town of Ramapo Housing Authority (NY084) | 38 Pondview Drive, Suffern, New York 10901-0000 | 52 | 545,740
Village of Spring Valley (NY148) | 200 North Main Street, Spring Valley, New York 10977 | 81 | 691,173
Albany Housing Authority (NY009) | 4 Lincoln Square, Albany, New York 12202-0000 | 189 | 954,828
The Municipal Housing Authority for the City of Yonkers (NY003) | 1511 Central Park Avenue, P.O. Box 35, Yonkers, New York 10701-0000 | 100 | 962,200
Erie County PHA Consortium (NY091) | 1195 Main Street, Buffalo, New York 14209-2196 | 360 | 1,565,280
Rochester Housing Authority (NY041) | 140 West Avenue, Rochester, New York 14611-0000 | 400 | 2,128,800
New York State Division of Housing & Community Renewal (NY902) | 25 Beaver Street, New York, New York 10004-0000 | 725 | 2,876,800
New York State Division of Housing and Community Renewal (NY903) | Hampton Plaza, 38-40 State Street, Albany, New York 12208-0000 | 1200 | 9,362,400
New York City Department of Housing Preservation & Development (NY110) | 100 Gold Street, New York, New York 10038-0000 | 1843 | 11,669,876
New York City Housing Authority (NY005) | 250 Broadway, New York, New York 10007-0000 | 1927 | 14,028,560
The City of Albemarle Public Housing (NC075) | 301 Bell Avenue, P.O. Drawer 1367, Albemarle, North Carolina 28002-1367 | 30 | 90,630
Housing Authority of the County of Wake (NC021) | P.O. Box 399, 100 Shannon Street, Zebulon, North Carolina 27597-0399 | 18 | 102,438
Housing Authority of Lincolnton (NC070) | 806 E. McBee Street, Lincolnton, North Carolina 28092 | 25 | 106,075
Sanford Housing Authority (NC035) | P.O. Box 6369, Sanford, North Carolina 27330 | 28 | 110,992
Hickory Public Housing Authority (NC056) | P.O. Box 2927, Hickory, North Carolina 28603-0000 | 31 | 120,342
Housing Authority of the Town of Laurinburg (NC018) | P.O. Box 1437, Laurinburg, North Carolina 28353-0000 | 38 | 138,814
Four County Community Services, Inc. (NC150) | P.O. Box 988, Laurinurg, North Carolina 28353-0000 | 40 | 139,800
Lexington Housing Authority (NC039) | P.O. Box 1085, Lexungton, North Carolina 27293-1085 | 42 | 158,508
Chatham County Housing Authority (NC120) | P.O. Box 637, Pittsboro, North Carolina 27312-0000 | 37 | 174,196
Sandhills Community Action Program, Inc. (NC149) | P.O. Box 937, Carthage, North Carolina 28327-0937 | 51 | 204,357
City of Concord Housing Department (NC008) | P.O. Box 308, Concord, North Carolina 28026-0308 | 45 | 209,160
Johnston County Housing Assistance Payments Program (NC164) | P.O. Box 1515, Smithfield, North Carolina 27577-0000 | 56 | 221,928
Asheboro Housing Authority (NC081) | 338 West Walnman Avenue, P.O. Box 609, Asheboro, North Carolina 27204-0609 | 71 | 241,471
Twin Rivers Opportunities, Inc. (NC151) | P.O. Box 1482, New Bern, North Carolina 28563-0000 | 75 | 308,250
Graham Housing Authority (NC059) | P.O. Box 88, Graham, North Carolina 27253-0000 | 78 | 345,150
Western Piedmont Council of Governments (NC159) | P.O. Box 9026, Hickory, North Carolina 28603-0000 | 92 | 374,348
Northwestern Regional Housing Authority (NC167) | P.O. Box 2510, Boone, North Carolina 28607-0000 | 100 | 381,500
Economic Improvement Council (NC145) | 712 Virginia Road, Edenton, North Carolina 27932-0000 | 108 | 389,340
Housing Authority of the City of Winston-Salem (NC012) | 901 Cleveland Avenue, Winston-Salem, North Carolina | 100 | 483,100
Greensboro Housing Authority (NC011) | 450 North Church Street, P.O. Box 21287, Greensboro, North Carolina | 167 | 949,228
Richland County Housing Authority (ND035) | 230 8th Avenue West, West Fargo, North Dakota 58078 | 5 | 14,380
Housing Authority of Cass County (ND001) | 230 8th Avenue West, West Fargo, North Dakota 58078 | 30 | 112,800
Minot Housing Authority (ND017) | 310 2nd Street SE, Minot, North Dakota 58701-0000 | 35 | 126,910
Fargo Housing and Redevelopment Authority (ND014) | P.O. Box 430, Fargo, North Dakota 58107-0430 | 35 | 131,355
Grand Forks Housing Authority (ND012) | 1405 First Avenue North, Grand Forks, North Dakota | 34 | 146,880
Hancock Metropolitan Housing Authority (OH082) | 604 Lima Avenue, Findlay, Ohio 45840-0000 | 5 | 16,585
Morrow Metropolitan Housing Authority (OH083) | 298 East Center Street, Suite B, Marion, Ohio 43302-0000 | 7 | 28,658
Portage Metropolitan Housing Authority (OH031) | 2832 State Route 59, Ravenna, Ohio 44266-0000 | 6 | 30,420
The Meigs Metropolitan Housing Authority (OH035) | 117 East Memorial Drive, Pomeroy, Ohio 45769-0000 | 9 | 35,037
Williams Metropolitian Housing Authority (OH074) | 1044 Chelsea Avenue, Napoleon, Ohio 43545 | 14 | 39,032
Fairfield Metropolitan Housing Authority (OH070) | 1506 Amherst Place, Lancaster, Ohio 43130-0000 | 22 | 89,826
City of Marietta Public Housing Authority (OH077) | 301 Putnam Street, Marietta, Ohio 45750-0000 | 28 | 96,600
Chillicothe Metropolitan Housing Authority (OH024) | 178 West Fourth Street, Chillicothe, Ohio 45601-3219 | 27 | 100,062
Marion Metropolitan Housing Authority (OH076) | P.O. Box 1029, Mansfield, Ohio 44901-0000 | 33 | 106,722
Pike Metropolitan Housing Authority (OH060) | 2626 Shyville Road, Piketon, Ohio 45661-0000 | 42 | 132,048
Zanesville Metropolitan Housing Authority (OH009) | 407 Pershing Road, Zanesville, Ohio 43701-0000 | 50 | 161,700
Delaware Metropolitan Housing Authority (OH079) | P.O. Box 1292, Delaware, Ohio 43015 | 33 | 164,439
Athens Metropolitan Housing Authority (OH041) | 10 Hope Drive, Athens, Ohio 45701-0000 | 56 | 216,664
Middletown Public Housing Agency (OH065) | 128 City Centre Mall, Middletown, Ohio 45042-0000 | 55 | 244,530
Lake Metropolitan Housing Authority (OH025) | 189 First Street, Painesville, Ohio 44077-0000 | 94 | 431,084
Hamilton County Public Housing (OH048) | 138 E. Court Street, Room 507, Cincinnati, Ohio 45202-0000 | 100 | 507,400
Youngstown Metropolitan Housing Authority (OH002) | 131 W. Boardman Street, Youngstown, Ohio 44503-1399 | 152 | 553,128
Dayton Metropolitan Housing Authority (OH005) | 400 Wayne Avenue, Dayton, Ohio 45410-1106 | 263 | 1,112,753
Lucas Metropolitan Housing Authority (OH006) | 435 Nebraska Avenue, Toledo, Ohio 43602-0000 | 290 | 1,220,900
Columbus Metropolitan Housing Authority (OH001) | 960 East Fifth Avenue, Columbus, Ohio 43201-0000 | 642 | 3,210,000
Cuyahoga Metropolitan Housing Authority (OH003) | 1441 West 25th Street, Cleveland, Ohio 44113-0000 | 642 | 3,263,928
Stillwater Housing Authority (OK146) | 807 S. Lowry, Stillwater, Oklahoma 74070-0000 | 55 | 193,109
Norman Housing Authority (OK139) | 700 North Berry Road, Norman, Oklahoma 73069-0000 | 99 | 385,465
Oklahoma Housing Finance Agency (OK901) | 1140 NW 63rd Street, Suite 200, P.O. Box 26720, Oklahoma City, Oklahoma 73126-0720 | 152 | 569,900
Oklahoma City Housing Authority (OK002) | 1700 Northeast Fourth Street, Oklahoma City, Oklahoma 73117-3800 | 152 | 572,398
Housing Authority of the City of Tulsa (OK073) | P.O. Box 6369 Tulsa, Oklahoma 74148-0000 | 152 | 649,827
Mid Columbia Housing Agency (OR025) | 506 East Second Street, The Dalles, Oregon 97058-0000 | 12 | 49,440
Housing Authority of Yamhill County (OR016) | 414 North East Evans Street, P.O. Box 865, McMinnville, Oregon 97128-0865 | 11 | 54,692
Klamath Housing Authority (OR017) | 1445 Avalon, P.O. Box 5110, Klamath Falls, Oregon 97601-0000 | 19 | 78,432
Coos-Curry Housing Authority (OR020) | 1700 Monroe, North Bend, Oregon 97459-0000 | 22 | 95,238
Northwest Oregon Housing Association (OR028) | 1508 Exchange Street, Astoria, Oregon 97103-0000 | 22 | 98,362
Marion County Housing Authority (OR014) | 3150 Lancaster Drive N.E., P.O. Box 14500, Salem, Oregon 97309 | 25 | 114,925
Housing Authority of the City of Salem (OR011) | P.O. Box 808, Salem, Oregon 97308-0808 | 42 | 204,162
Housing Authority of Jackson County (OR015) | 2231 Table Rock Road, Medford, Oregon 97501-0000 | 42 | 204,540
Northeast Oregon Housing Authority (OR032) | P.O. Box 3357, 2608 May Lane, La Grande, Oregon 97850-0000 | 65 | 256,945
Housing Authority of Portland (OR002) | 135 SW Ash Street, Portland, Oregon 97204-0000 | 66 | 364,914
Housing Authority & Community Services Agency of Lane County (OR006) | 177 Day Island Road, Eugene, Oregon 97401-0000 | 100 | 539,600
Clackamas County Housing Authority (OR001) | P.O. Box 1510, 13930 South Gain Street, Oregon City, Oregon 97045-0510 | 123 | 708,111
Linn-Benton Housing Authority (OR019) | 1250 Queen Avenue S.E., Albany, Oregon 97321-0000 | 183 | 897,432
Housing Authority of the County of Huntingdon (PA027) | 100 Federal Drive, Mount Union, Pennsylvania | 15 | 42,497
Jefferson County Housing Authority (PA061) | 210 North Jefferson Street, Punxsutawney, Pennsylvania | 14 | 45,187
Housing Authority of the County of Wayne (PA078) | 130 Carbondale Road, Waymart, Pennsylvania 18472-0000 | 15 | 70,438
Housing Authority of Lycoming, PA (PA021) | 1875 New Hope Street, Norristown, Pennsylvania 19401-0000 | 26 | 74,540
Columbia County Housing Authority (PA083) | 700 Sawmill Road, Bloomsburg, Pennsylvania 17815 | 25 | 78,108
Wyoming County Housing Authority (PA073) | P.O. Box 350, Nicholson, Pennsylvania 18446-0350 | 35 | 118,260
Monroe County Housing Authority (PA028) | 1055 West Main Street, Stroudsburg, Pennsylvania 18360 | 25 | 149,781
Housing Authority of Northumberland County (PA060) | 50 Mahoning Street, Milton, Pennsylvania 17847-0000 | 67 | 182,454
Lancaster County Housing Authority (PA090) | 29 East King Street, Suite 316, Lancaster, Pennsylvania 17602-0000 | 50 | 226,385
Reading Housing Authority (PA009) | 400 Hancock Boulevard, Reading, Pennsylvania 19611-0000 | 50 | 229,250
Lancaster City Housing Authority (PA036) | 325 Church Street, Lancaster, Pennsylvania 17602-4201 | 50 | 239,536
Housing Authority of Centre County (PA088) | 602 East Howard Street, Bellefonte, Pennsylvania 16823-0000 | 60 | 267,266
Lackawanna County Housing Authority (PA038) | 2019 West Pine Street, Dunmore, Pennsylvania 18512-0000 | 100 | 331,593
Cumberland County Housing Authority (PA075) | 114 North Hanover Street, Carlisle, Pennsylvania 17013-2445 | 100 | 374,052
Housing Authority of the City of York (PA022) | 31 S. Broad Street, P.O. Box 1963, York, Pennsylvania 17405-0000 | 100 | 398,381
Northampton County Housing Authority (PA076) | 15 South Wood Street, P.O. Box 252, Nazareth, Pennsylvania 18064-0000 | 100 | 488,935
Housing Authority of the County of Chester (PA046) | 30 West Barnard Street, 1st Floor, West Chester, Pennsylvania | 100 | 641,111
Housing Authority of the County of Luzerne (PA057) | 250 First Avenue, Kingston, Pennsylvania 18704-5899 | 188 | 732,533
Lehigh County Housing Authority (PA081) | 635 Broad Street, Emmaus, Pennsylvania 18049-0000 | 200 | 903,662
Montgomery County Housing Authority (PA012) | 1875 New Hope Street, Norristown, Pennsylvania 19401-3146 | 370 | 2,114,916
Delaware County Housing Authority (PA023) | 1855 Constitution Avenue, Woodlyn, Pennsylvania 19095-0000 | 400 | 2,370,938
Philadelphia Housing Authority (PA002) | 12 South 23rd Street, Philadelphia, Pennsylvania 19106-0000 | 696 | 4,711,230
Municipality of Ceiba (RQ070) | P.O. Box 224, Ceiba, Puerto Rico 00735-0000 | 4 | 16,741
Municipality of Lares (RQ065) | P.O. Box 395, Lares, Puerto Rico 00669 | 6 | 17,232
Municipality of Lajas (RQ071) | P.O. Box 910, Lajas, Puerto Rico 00667-0000 | 7 | 20,714
Municipality of Aguada (RQ073) | P.O. Box 517, Aguada, Puerto Rico 00602-0000 | 8 | 26,578
Municipality of San German (RQ030) | P.O. Box 85, San German, Puerto Rico 00683-0000 | 8 | 30,063
Municipality of Luquillo (RQ081) | P.O. Box 1012, Luquillo, Puerto Rico 00773-0000 | 6 | 30,712
Municipality of Isabela (RQ066) | Section 8 Office, P.O. Box 507, Isabela, Puerto Rico 00662-0000 | 9 | 32,872
Municipality of Las Piedras (RQ063) | P.O. Box 68, Las Piedras, Puerto Rico 00771-0000 | 12 | 35,169
Municipality of Hormigueros (RQ035) | P.O. Box 94, Hormigueros, Puerto Rico 00660-0000 | 9 | 35,199
Municipality of Barceloneta (RQ054) | P.O. Box 2049, Barceloneta, Puerto Rico 00617-0000 | 10 | 40,596
Municipality of Rio Grande (RQ050) | P.O. Box 845, Rio Grande, Puerto Rico 00745-0000 | 8 | 46,290
Municipality of Juana Diaz (RQ038) | P.O. Box 4109, Juana Diaz, Puerto Rico 00795-0000 | 12 | 54,690
Municipality of Gurabo (RQ041) | P.O. Box 320, Gurabo, Puerto Rico 00778-0320 | 13 | 56,434
Puerto Rico Housing Finance Corp. (RQ031) | P.O. Box 71361, San Juan, Puerto Rico 00936-8461 | 17 | 56,791
Municipality of Cidra (RQ062) | P.O. Box 729, Cidra, Puerto Rico 00739-0000 | 18 | 81,556
Municipality of Manati (RQ028) | P.O. Box 3065, Manati, Puerto Rico 00674-0000 | 17 | 81,655
Municipality of Vega Baja (RQ032) | P.O. Box 4555, Vega Baja, Puerto Rico 00694-4555 | 21 | 92,337
Municipality of Carolina (RQ014) | P.O. Box 8, Carolina, Puerto Rico 00986-0008 | 63 | 334,436
Municipality of Caguas (RQ007) | P.O. Box 907, Caguas, Puerto Rico 00726-0907 | 129 | 478,968
Municipality of Bayamon (RQ011) | P.O. Box 1588, Bayamon, Puerto Rico 00960-0000 | 100 | 534,061
Municipality of San Juan (RQ006) | P.O. Box 362138, San Juan, Puerto Rico 00936-2138 | 191 | 938,087
Pawtucket Housing Authority (RI002) | 214 Roosevelt Avenue, Pawtucket, Rhode Island 02862-1303 | 40 | 215,000
Cranston Housing Authority (RI006) | 50 Birch Street, Cranston, Rhode Island 02920 | 40 | 222,200
Cumberland Housing Authority (RI010) | 573 Mendon Road, Cumberland, Rhode Island 02864-0000 | 52 | 284,960
Rhode Island Housing Mortgage Finance Corporation (RI901) | 44 Washington Street, Providence, Rhode Island 02903-0000 | 71 | 491,107
Beaufort Housing Authority (SC026) | P.O. Box 1104, Beaufort, South Carolina 29901-0000 | 30 | 125,280
Housing Authority of Anderson (SC037) | 1355 East River Street, Anderson, South Carolina 29624-0000 | 47 | 168,871
The Housing Authority of the City of Greenwood (SC030) | P.O. Box 973, Greenwood, South Carolina 29648-0000 | 71 | 198,232
Myrtle Beach Housing Authority (SC034) | P.O. Box 2468, Myrtle Beach, South Carolina | 70 | 308,140
Charleston County Housing & Redevelopment Authority (SC056) | Myers Branch 2106 Mount Pleasant Street, P.O. Box 6188, Charleston, South Carolina 29405-6188 | 100 | 451,100
The Housing Authority of the City of Charleston (SC001) | 550 Meeting Street, Charleston, South Carolina 29403-0000 | 153 | 640,305
Spartanburg Housing Authority (SC003) | 325 S. Church Street, P.O. Box 2828, Spartanburg, South Carolina | 143 | 641,498
Madison Housing & Redevelopment Commission (SD011) | 111 S. Washington Avenue Madison, South Dakota 57042-0000 | 12 | 34,524
Huron Housing & Redevelopment Authority (SD036) | 53 3rd Street S.W., P.O. Box 283, Huron, South Dakota 57350-0000 | 30 | 89,700
Aberdeen Housing Authority (SD034) | 2324 Third Avenue SE, Aberdeen, South Dakota 57401-0000 | 41 | 111,110
Pennington County Housing and Redevelopment Commission (SD045) | 1805 West Fulton Street, Rapid City, South Dakota 57702-0000 | 42 | 174,006
Sioux Falls Housing & Redevelopment Commission (SD016) | 804 South Minnesota Avenue, Sioux Falls, South Dakota 57104-4829 | 41 | 181,917
Crossville Housing Authority (TN042) | 67 Irwin Avenue, P.O. Box 425, Crossville, Tennessee 38557-0000 | 27 | 85,712
Knox County Housing Authority (TN111) | 6333 Pleasant Ridge Road, Knoxville, Tennessee 37921-0000 | 56 | 222,745
East Tennessee Human Resource Agency, Inc. (TN113) | 9111 Cross Park Drive, D-100, Knoxville, Tennessee 37923 | 64 | 234,388
Jackson Housing Authority (TN007) | P.O. 3188, Jackson, Tennessee 38303-0188 | 67 | 268,159
Kingsport Housing and Redevelopment Authority (TN006) | P.O. Box 44, 906 E. Sevier Avenue, Kingsport, Tennessee 37662-0044 | 70 | 268,437
Knoxville Community Development Corp. (TN003) | P.O. Box 3550, 901 Broadway, N.E., Knoxville, Tennessee 37927-3550 | 209 | 840,846
Chattanooga Housing Authority (TN004) | P.O. Box 1486, Chattanooga, Tennessee 37401-0000 | 229 | 1,023,249
Metropolitan Development & Housing (TN005) | 701 South Sixth Street, P.O. Box 846, Nashville, Tennessee 37202-0000 | 200 | 1,083,029
Housing Authority of the County of El Paso (TX432) | 650 East G Street, P.O. Box 279, El Paso, Texas 79838-0000 | 11 | 51,774
Housing Authority of the City of Nacogdoches, TX (TX486) | 715 Summit, Nacogdoches, Texas 75961-0000 | 42 | 169,592
Public Housing Authority of San Angelo (TX470) | 115 West 1st Street, San Angelo, Texas 76903-0000 | 52 | 170,003
Hidalgo County Housing Authority (TX497) | 1800 North Texas Blvd., Weslaco, Texas 78596-0000 | 58 | 218,967
Housing Authority of Bexar County (TX452) | 301 S. Frio, Suite 290, San Antonio, Texas 78207-0000 | 133 | 662,873
Arlington Housing Authority (TX433) | 501 W. Sanford, Suite 20, Arlington, Texas 76011-0000 | 178 | 952,464
Central Texas Council of Governments (TX482) | P.O. Box 729, Belton, Texas 76513-0000 | 223 | 989,006
Fort Worth Housing Authority (TX004) | P.O. Box 430, Fort Worth, Texas 76101-0000 | 317 | 1,435,772
Housing Authority of the City of Austin (TX001) | P.O. Box 6159, Austin, Texas 78762-6159 | 284 | 1,785,498
The Housing Authority of the City of San Antonio (TX006) | 818 South Flores Street, San Antonio, Texas 78204-0000 | 500 | 2,669,055
Housing Authority of the City of Houston (TX005) | P.O. Box 2971, Houston, Texas 77252-2971 | 900 | 4,845,474
City Of Dallas Housing Authority (TX009) | 3939 N. Hampton Road, Dallas, Texas 75212-0000 | 900 | 6,060,960
Bear River Regional Housing Authority (UT030) | 170 North Main Street, Logan, Utah 84321-0000 | 3 | 9,867
St. George Housing Authority (UT021) | 975 North 1725 W #101, St. George, Utah 84770 | 6 | 32,280
Logan City Housing Authority (UT026) | 170 North Main Street, Logan, Utah 84321-0000 | 20 | 73,880
West Valley City Housing Authority (UT025) | 3600 Constitution Blvd., West Valley City, Utah 84119-3720 | 43 | 226,524
Provo City Housing Authority (UT007) | 650 West 100 North, Provo, Utah 84601-0000 | 70 | 337,260
Housing Authority of Salt Lake City (UT004) | 1776 South West Temple, Salt Lake City, Utah 84115-0000 | 71 | 343,427
Housing Authority of the County of Salt Lake (UT003) | 3595 South Main, Salt Lake City, Utah 84115 | 71 | 345,841
Rutland Housing Authority (VT003) | Administration Building, 5 Tremont Street, Rutland, Vermont 05701-0000 | 6 | 24,336
Montpelier Housing Authority (VT008) | 155 Main Street, Montpelier, Vermont 05602-0000 | 12 | 50,148
Bennington Housing Authority (VT009) | 10 Willow Road, Bennington, Vermont 05201-0000 | 19 | 88,255
Vermont State Housing Authority (VT901) | One Prospect Street, Montpelier, Vermont 05602-3556 | 34 | 149,736
Winooski Housing Authority (VT006) | 83 Barlow Street, Winooski, Vermont 05404-0000 | 33 | 179,652
Burlington Housing Authority (VT001) | 230 St. Paul Street, Burlington, Vermont 05401-0000 | 34 | 200,056
Virgin Islands Housing Authority (VQ901) | P.O. Box 7668, Charlotte Amalie, St. Thomas, Virgin Islands 00801-0000 | 97 | 527,468
Big Stone Gap Redevelopment and Housing Authority (VA038) | P.O. Box 536, Big Stone Gap, Virginia 24219-0000 | 14 | 46,942
Scott County Redevelopment and Housing Authority (VA031) | 133 W. Jackson Street, Gate City, Virginia 24251-0000 | 18 | 53,730
Lee County Housing and Redevelopment Authority (VA034) | P.O. Box 665, Jonesville, Virginia 24263-0000 | 60 | 188,520
Wise County Redevelopment and Housing Authority (VA024) | P.O. Box 630, Coeburn, Virginia 24230-0000 | 94 | 335,580
City of Virginia Beach, Department of Housing & Neighborhood Preservation | Section 8 Division, 2424 Court House Drive, Building 18A, Virginia Beach, Virginia 23456-0000 | 100 | 337,900
Virginia Housing Development Authority (Loudoun County) (VA902) | 601 S. Belvidere Street, Richmond, Virginia 23220-0000 | 100 | 799,100
Hampton Redevelopment & Housing Authority (VA017) | P.O. Box 280, Hampton, Virginia 23669-0000 | 278 | 910,172
Fairfax County Redevelopment & Housing Authority (VA019) | 3700 Pender Drive, Suite 100, Fairfax, Virginia 22030-7442 | 78 | 2,179,520
Housing Authority City of Seattle (WA001) | 120 6th Avenue North, Seattle, Washington 98109-0000 | 79 | 546,194
Bellingham Housing Authority (WA025) | P.O. Box 9701, Bellingham, Washington 98227-9701 | 125 | 737,414
Housing Authority of Snohomish County (WA039) | 12625 4th Avenue West, Suite 200, Everett, Washington 98204-0000 | 156 | 1,008,088
Housing Authority City of Tacoma (WA005) | 902 South L Street, Tacoma, Washington 98405-0000 | 261 | 1,261,303
King County Housing Authority (WA002) | 15455 65th Avenue South, Seattle, Washington 98188-2583 | 310 | 2,108,284
Weirton Housing Authority (WV016) | 525 Cove Road, Weirton, West Virginia 26062-0000 | 50 | 187,800
Housing Authority of the City of Wheeling (WV003) | 11 Community Street-Elm Grove, P.O. Box 2089, Wheeling, West Virginia 26003-0289 | 52 | 193,492
Parkersburg Housing Authority (WV005) | 1901 Cameron Avenue, Parkersburg, West Virginia 26101-0000 | 75 | 270,675
Housing Authority of Mingo County (WV037) | P.O. Box 2239, Williamson, West Virginia 25661-0000 | 96 | 316,896
Huntington West Virginia Housing Authority (WV004) | P.O. Box 2183, Huntington, West Virginia 25722-0000 | 96 | 370,656
The City of Ashland Housing Authority (WI131) | 319 Chapple Avenue, Ashland, Wisconsin 54806-0000 | 10 | 28,100
Housing Authority of the City of Washburn (WI127) | 420 East Third Street, Washburn, Wisconsin 54891-0000 | 14 | 32,256
Dunn County Housing Authority (WI160) | 1421 Stout Road, Menomonie, Wisconsin 54751-0000 | 18 | 59,256
City of New Berlin Housing Authority (WI259) | 120 Corrina Blvd., Waukesha, Wisconsin 53186-0000 | 14 | 59,346
Sawyer County Housing Authority (WI222) | P.O. Box 791, Hayward, Wisconsin 54843-0000 | 25 | 73,650
Chippewa County Housing Authority (WI248) | 711 North Bridge Street #14, Chippewa Falls, Wisconsin 54729-0000 | 50 | 157,600
City of Appleton Housing Authority (WI217) | 525 N. Oneida Street, Appleton, Wisconsin 54911-4749 | 50 | 163,450
Waukesha County Housing Authority (WI261) | 120 Corrina Blvd., Waukesha, Wisconsin 53186-0000 | 58 | 266,742
Kenosha Housing Authority (WI195) | 625-52nd Street, Kenosha, Wisconsin 53140-0000 | 100 | 511,100
City of Waukesha Housing Authority (WI142) | 120 Corrina Boulevard, Waukesha, Wisconsin 53186-0000 | 132 | 607,464
Racine County Housing Authority (WI183) | 837 Main Street, Racine, Wisconsin 53403-0000 | 256 | 1,031,936
CDA Housing Operations (WI003) | P.O. Box 1785 Madison, Wisconsin 53701-1785 | 246 | 1,336,272
Housing Authority of the City of Casper (WY004) | 800 Werner Court, Suite 230, Casper, Wyoming 82604-0000 | 20 | 84,640
Cheyenne Housing Authority (WY002) | 3304 Sheridan Street, Cheyenne, Wyoming 82009-0000 | 20 | 94,400

[FR Doc. 01-9543 Filed 4-17-01; 8:45 am]

BILLING CODE 4210-33-P